DEPARTMENT OF COMMERCE

Foreign-Trade Zones Board

[Docket 71-2000]

Foreign-Trade Zone 50, Long Beach, California, Proposed Foreign-Trade Subzone, ARCO Products Company (Oil Refinery Complex), Long Beach, California, Area; Correction

The Federal Register notice (65 FR 82320, 12/28/00) describing the application submitted to the Foreign-Trade Zones Board (the Board) by the Board of Harbor Commissioners of the City of Long Beach, grantee of FTZ 50, requesting special-purpose subzone status for the oil refinery complex of Atlantic Richfield Company (ARCO), in the Long Beach, California, area, is corrected as follows: in paragraph 2, the description of Sites 5, 6, and 7 should be as follows:

“Site 5 (5 tanks, 1.1 million barrel capacity, 15 acres)”;

“Site 6 (13 tanks, 3.6 million barrel capacity, 75 acres)”;

“Site 7 (20 tanks, 1.1 million barrel capacity, 20 acres)”.

Dated: January 11, 2001.
Dennis Puccinelli,
Executive Secretary.

[FR Doc. 01-1685 Filed 1-19-01; 8:45 am]

BILLING CODE 3510-DS-P